NUCLEAR REGULATORY COMMISSION

[Docket No. 50-286; NRC-2010-0562]

Entergy Nuclear Operations, Inc.; Notice of Withdrawal of Application for Amendment to Facility Operating License

The U.S. Nuclear Regulatory Commission (NRC, the Commission) has granted the request of Entergy Nuclear Operations, Inc. (the licensee) to withdraw its December 15, 2009, application for proposed amendment to Facility Operating License No. DPR-64 for the Indian Point Nuclear Generating Unit No. 3, located in Westchester County, New York.

The proposed amendment would have revised the Technical Specifications pertaining to the auxiliary feedwater system.

The Commission had previously issued a Notice of Consideration of Issuance of Amendment published in the Federal Register on December 21, 2009 (74 FR 67932). However, by letter dated November 17, 2010, the licensee withdrew the proposed change.

For further details with respect to this action, see the application for amendment dated December 15, 2009, and the licensee's letter dated November 17, 2010, which withdrew the application for license amendment. Documents may be examined, and/or copied for a fee, at the NRC's Public Document Room (PDR), located at One White Flint North, Public File Area O1 F21, 11555 Rockville Pike (First Floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 13th day of December 2010.
For the Nuclear Regulatory Commission.
John P. Boska,
Senior Project Manager, Plant Licensing Branch I-1, Division of Operating Reactor Licensing, Office of Nuclear Reactor Regulation.

[FR Doc. 2010-32138 Filed 12-21-10; 8:45 am]

BILLING CODE 7590-01-P